OFFICE OF THE UNITED STATES TRADE REPRESENTATIVE

[Docket No. WTO/DS-295]

WTO Dispute Settlement Proceeding Regarding Mexican Antidumping Measure on Long-Grain White Rice and Mexico's Foreign Trade Act

AGENCY: Office of the United States Trade Representative.

ACTION: Notice; request for comments.

SUMMARY: The Office of the United States Trade Representative (USTR) is providing notice that on November 7, 2003, the WTO, at the request of the United States, established a WTO dispute settlement panel to examine Mexico's definitive antidumping measure on U.S. long-grain white rice and certain provisions of Mexico's Foreign Trade Act. USTR invites written comments from the public concerning the issues raised in this dispute.

DATES: Although USTR will accept any comments received during the course of the dispute settlement proceedings, comments should be submitted on or before July 15, 2004 to be assured of timely consideration by USTR.

ADDRESSES: Comments should be submitted (i) electronically, to FR0433@ustr.gov, with “Mexico Rice Dispute (DS295)” in the subject line, or (ii) by fax, to Sandy McKinzy at (202) 395-3640, with a confirmation copy sent electronically to the electronic mail address above, in accordance with the requirements for submission set out below.

FOR FURTHER INFORMATION CONTACT: David J. Ross, Associate General Counsel, Office of the United States Trade Representative, 600 17th Street, NW., Washington, DC, (202) 395-6139.

SUPPLEMENTARY INFORMATION: Section 127(b) of the Uruguay Round Agreements Act (URAA) (19 U.S.C. 3537(b)(1)) requires that notice and opportunity for comment be provided after the United States submits or receives a request for the establishment of a WTO dispute settlement panel. If a dispute settlement panel is established pursuant to the WTO Dispute Settlement Understanding (DSU), such panel, which would hold its meetings in Geneva, Switzerland, would be expected to issue a report on its findings and recommendations within six to nine months after it is established.

Major Issues Raised by the United States

On June 5, 2002, Mexico published in the Diario Oficial its definitive antidumping measure on long-grain white rice from the United States. The United States believes this measure to be inconsistent with several provisions of the WTO Antidumping Agreement, including Articles 1, 3, 4, 5, 6, 9, 11, 12, and Annex II. The United States also believes that the measure is inconsistent with Articles I and VI of the GATT 1994. The U.S. concerns relate, inter alia, to the manner in which Mexico conducted its dumping and injury investigations; Mexico's calculation of the antidumping margins that it applied to exporters that did not receive individual margins; and Mexico's non-transparent determinations.

The United States is also challenging certain provisions of Mexico's Foreign Trade Act that appear to be inconsistent with Mexico's obligations under various provisions of the Antidumping Agreement and the Agreement on Subsidies and Countervailing Measures. The provisions at issue include Article 53, which sets the deadline for interested parties to present arguments, information, and evidence to the investigating authorities; Article 64, which establishes how Mexican investigating authorities will apply the “facts available” in calculating antidumping and countervailing duty margins; Article 68, which establishes rules for conducting reviews of exporters; Article 89D, which applies to “new shipper” reviews; and Article 93V, which provides for the application of fines on importers that enter products subject to antidumping and countervailing duty investigations.

The United States is also challenging Article 366 of Mexico's Federal Code of Civil Procedure, as well as Articles 68 and 97 of the Foreign Trade Act. Mexican officials have represented to the United States that these provisions prevent Mexico from conducting reviews of antidumping or countervailing duty orders while a judicial review of the order is ongoing.

The U.S. panel request, which sets out the U.S. claims in detail, can be downloaded from the WTO Web site, at http://docsonline.wto.org:80/DDFDocuments/t/WT/DS/295-2.doc.

Public Comment: Requirements for Submissions

Interested persons are invited to submit written comments concerning the issues raised in this dispute. Persons submitting comments may either send one copy by fax to Sandy McKinzy at (202) 395-3640, or transmit a copy electronically to FR0433@ustr.gov, with “Mexico Rice Dispute (DS295)” in the subject line. For documents sent by fax, USTR requests that the submitter provide a confirmation copy to the electronic mail address listed above.

USTR encourages the submission of documents in Adobe PDF format, as attachments to an electronic mail. Interested persons who make submissions by electronic mail should not provide separate cover letters; information that might appear in a cover letter should be included in the submission itself. Similarly, to the extent possible, any attachments to the submission should be included in the same file as the submission itself, and not as separate files.

A person requesting that information contained in a comment submitted by that person be treated as confidential business information must certify that such information is business confidential and would not customarily be released to the public by the submitter. Confidential business information must be clearly marked “BUSINESS CONFIDENTIAL” at the top and bottom of the cover page and each succeeding page of the submission.

Information or advice contained in a comment submitted, other than business confidential information, may be determined by USTR to be confidential in accordance with section 135(g)(2) of the Trade Act of 1974 (19 U.S.C. 2155(g)(2)). If the submitting person believes that information or advice may qualify as such, the submitting person—

(1) Must so designate the information or advice;

(2) Must clearly mark the material as “SUBMITTED IN CONFIDENCE” at the top and bottom of each page of the cover page and each succeeding page; and

(3) Is encouraged to provide a non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; if a dispute settlement panel is convened, the U.S. submissions to that panel, the submissions, or non-confidential summaries of submissions, to the panel received from other participants in the dispute, as well as the report of the panel; and, if applicable, the report of the Appellate Body. An appointment to review the public file (Docket No. WT/DS-295, Mexico Rice Dispute) may be made by calling the USTR Reading Room at (202) 395-6186. The USTR Reading Room is open to the public from 9:30 a.m. to 12 noon and 1 p.m. to 4 p.m., Monday through Friday.

Bruce R. Hirsh,
Acting Assistant United States Trade Representative for Monitoring and Enforcement.

[FR Doc. 04-13946 Filed 6-18-04; 8:45 am]

BILLING CODE 3190-W4-P